DEPARTMENT OF JUSTICE

Antitrust Division

Notice Pursuant to the National Cooperative Research and Production Act of 1993—Infiniband Trade Association

Notice is hereby given that, on June 27, 2000, pursuant to section 6(a) of the National Cooperative Research and Production Act of 1993, 15 U.S.C. 4301 et seq. (“the Act”), InfiniBand Trade Association has filed written notifications simultaneously with the Attorney General and the Federal Trade Commission disclosing changes in its membership status. The notifications were filed for the purpose of extending the Act's provisions limiting the recovery of antitrust plaintiffs to actual damages under specified circumstances. Specifically, 3M Company, Austin, TX; Advanced Micro Devices, Sunnyvale, CA; Agilent Technologies, San Jose, CA; Alpha Processor, Inc., Concord, MA; Altera Corporation, San Jose, CA; AMP, Harrisburg, PA; Analytic Logic, Inc., Pottstown, PA; Ancot Corporation, Menlo Park, CA; Aralion, Inc., Seoch-GU, Seoul, Republic of Korea; ATTO Technology, Inc., Amherst, NY; AV Labs, Austin, TX; Avici Systems, Inc., North Billerica, MA; Belobox Networks, Inc., Irvine, CA; Brocade Communications Systems, Inc., San Jose, CA; Bull, Les Clayes sous Bois, France; C&M Corporation, Wauregan, CT; Catalyst Enterprises, San Jose, CA; CATC, Santa Clara, CA; Chaparral Network Storage, Longmont, CO; Computer Network Technology, Plymouth, MN; ConnectCom Solutions, Inc., San Jose, CA; Creek Path Systems, Boulder, CO; DCM Technologies, Newark, CA; DiviCom, Milpitas, CA; Dolphin Interconnect, Oslo, Norway; DY4 Systems, Inc., Kanata, Ontario, Canada; EMC, Hopkinton, MA; Galileo Technology, D.N. Misgav, Israel; Harting Inc. of North America, Elgin, IL; Hint Corp., Fremont, CA; Huawei Technologies Co., LTD, Shenzhen, Guangdong, Peoples Republic of China; Hyperchip, Montreal, Quebec, Canda; Ikadega, Northbrook, IL; Infortrend Technology, Inc., Chung-Ho City, Taipei Hsien, Taiwan; inRaid, Incline Village, NV; Instrument Specialities Co., Inc., Delaware Water Gap, PA; Integrated Device Technology, Inc., Santa Clara, CA; Intera Systems, Inc., Los Gatos, CA; interEMS.com, Eau Claire, WI; Intersil Corp., Melbourne, FL; JAE Electronics, Inc., Irvine, CA; Juniper Networks, Inc., Mountain View, CA; Lockheed Martin Corporation, Moorestown, NJ; Mercury Computer Systems, Inc., Chelmsford, MA; MindShare, Inc., Colorado Springs, CO; Montrose/CDT, Auburn, MA; Motorola Computer Group, Monterey, CA; National Semiconductor Corporation, Santa Clara, CA; NCR Corporation, San Diego, CA; Net Convergence, Inc., Santa Clara, CA; Netcom Systems, Inc. Calabasas, CA; Novell, Inc., Provo, UT; NuSpeed, Maple Grove, MN; Oracle Corporation, Redwood Shores, CA; Pathlight Technology, Ithaca, NY; Phoenix Technologies, Irvine, CA; Power Micro Research, Inc., Austin, TX; Power X Ltd., Sale, Cheshire, United Kingdom; Primarion, Inc., Tempe, AZ; Prisa Networks, San Diego, CA; Prolific Technology, Inc., Taipei, Taiwan; Raytheon, El Segundo, CA; REDSWITCH, Inc., Milpitas, CA; Rittal Corporation, Aptos, CA; SBE, Inc., San Ramon, CA; SCO, Santa Cruz, CA; Seagate Technology, Inc., Shakopee, MN; Server Works Corp., Santa Clara, CA; Silicon Image, Sunnyvale, CA; Simple Technology, Inc., Santa Ana, CA; Sky Computers, Chelmford, MA; Spinnaker Networks, Pittsburgh, PA; Storage Technology Corp., Minneapolis, MN; Synopsys, Inc., Mountain View, CA; System Design Associates, Acton, MA; Tensolite Company, St. Augustine, FL; Tokyo Electron, Ltd., Tokyo, Japan; Troika Networks, Inc., Cuperinto, CA; TurboLinux, Inc., Brisbane, CA; Unisys Corporation, Malvern, PA; Veritas Softare Corp., Mountain View, CA; VIA Technologies, Fremont, CA; Virtutech AB, Stockholm, Sweden; Voltaire Advanced Data Security, Ltd., Herzeliu, Israel; and Wind River Systems, Alameda, CA have been added as parties to this venture.

No other changes have been made in either the membership or planned activity of the group research project. Membership in this group research project. Membership in this group research project remains open, and InfiniBand Trade Association intends to file additional written notification disclosing all changes in membership.

On January 21, 2000, InfiniBand Trade Association filed its original notification pursuant to section 6(a) of the Act. The Department of Justice published a notice in the Federal Register pursuant to section 6(b) of the Act on June 21, 2000 (65 FR 38594).

Constance K. Robinson,
Director of Operations, Antitrust Division.

[FR Doc. 00-20301 Filed 8-9-00; 8:45 am]

BILLING CODE 4410-11-M